NATIONAL AERONAUTICS AND SPACE ADMINISTRATION

[Notice: 13-035]

NASA Advisory Council; Meeting

AGENCY: National Aeronautics and Space Administration.

ACTION: Notice of Meeting.

SUMMARY: In accordance with the Federal Advisory Committee Act, Public Law 92-463, as amended, the National Aeronautics and Space Administration announces a meeting of the NASA Advisory Council (NAC).

DATES: Wednesday, April 24, 2013, 9:00 a.m.-5:00 p.m., and Thursday, April 25, 2013, 9:00 a.m.-5:00 p.m., Local Time

ADDRESSES: NASA Headquarters, 300 E Street SW., Room 9H40, Program Review Center (PRC), Washington, DC, 20456

FOR FURTHER INFORMATION CONTACT: Ms. Marla King, NAC Administrative Officer, National Aeronautics and Space Administration Headquarters, Washington, DC, 20546, (202) 358-1148.

SUPPLEMENTARY INFORMATION: The meeting will be open to the public up to the seating capacity of the room. This meeting is also available telephonically and by WebEx. You must use a touch tone phone to participate in this meeting. Any interested person may dial the toll free access number 866-753-1451 or toll access number 1-203-875-1553, and then the numeric participant passcode: 6957984 followed by the # sign. To join via WebEx, the link is https://nasa.webex.com/, meeting number 999 465 732, and password: AprilNAC@2013.

The agenda for the meeting includes the following topics:

—Aeronautics Committee Report

—Audit, Finance and Analysis Committee Report

—Commercial Space Committee Report

—Education and Public Outreach Committee Report

—Human Exploration and Operations Committee Report

—Information Technology Infrastructure Committee Report

—Science Committee Report

—Technology and Innovation Committee Report

It is imperative that the meeting be held on these date to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Marla King via email at marla.k.king@nasa.gov or by telephone at (202) 358-1148. U.S. citizens and Permanent Residents (green card holders) are requested to submit their name and affiliation 3 working days prior to the meeting to Marla King.

Patricia D. Rausch,
Advisory Committee Management Officer, National Aeronautics and Space Administration.

[FR Doc. 2013-07776 Filed 4-3-13; 8:45 am]

BILLING CODE 7510-13-P